DEPARTMENT OF HOMELAND SECURITY

Federal Emergency Management Agency

[Docket ID FEMA-2013-0002; Internal Agency Docket No. FEMA-B-1306]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Arizona: Maricopa | Unincorporated areas of Maricopa County (12-09-2950P) | The Honorable Max W. Wilson, Chairman, Maricopa County Board of Supervisors, 301 West Jefferson Street, 10th Floor, Phoenix, AZ 85003 | Maricopa County Flood Control District, 2801 West Durango Street, Phoenix, AZ 85009 | http://www.r9map.org/Docs/12-09-2950P-040037-102IAC.pdf | April 5, 2013 | 040037
California: San Bernardino | City of Fontana (12-09-2642P) | The Honorable Acquanetta Warren, Mayor, City of Fontana, 8353 Sierra Avenue, Fontana, CA 92335 | Fontana City Hall, 8353 Sierra Avenue, Fontana, CA 92335 | http://www.r9map.org/Docs/12-09-2642P-060274-102IAC.pdf | May 13, 2013 | 060274
Illinois:
DuPage | City of Darien (13-05-1709P) | The Honorable Kathleen A. Weaver, Mayor, City of Darien, 1702 Plainfield Road, Darien, IL 60561 | Darien City Hall, 1702 Plainfield Road, Darien, IL 60561 | http://www.starr-team.com/starr/LOMR/Pages/RegionV.aspx | May 28, 2013 | 170750
Peoria | City of Peoria (12-05-7861P) | The Honorable Jim Ardis, Mayor, City of Peoria, 6141 North Evergreen Circle, Peoria, IL 61614 | City of Peoria Public Works Department, 3505 North Dries Lane, Peoria, IL 61604 | http://www.starr-team.com/starr/LOMR/Pages/RegionV.aspx | June 7, 2013 | 170536
Boone | Town of Zionsville (12-05-6549P) | The Honorable Jeff Papa, President, Zionsville Town Council, 1100 West Oak Street, Zionsville, IN 46077 | 1100 West Oak Street, Zionsville, IN 46077 | http://www.starr-team.com/starr/LOMR/Pages/RegionV.aspx | April 9, 2013 | 180016
Fulton | City of Rochester (12-05-9647P) | The Honorable Mark Smiley, Mayor, City of Rochester, 320 Main Street, Rochester, IN 46975 | 125 East 9th Street, Rochester, IN 46975 | http://www.starr-team.com/starr/LOMR/Pages/RegionV.aspx | May 29, 2013 | 180071
Fulton | Unincorporated areas of Fulton County (12-05-9647P) | The Honorable Mark J. Rodriguez, President, Fulton County Board of Commissioners, 1784 Chickory Lane, Rochester, IN 46975 | 125 East 9th Street, Rochester, IN 46975 | http://www.starr-team.com/starr/LOMR/Pages/RegionV.aspx | May 29, 2013 | 180070
Iowa: Black Hawk | City of Cedar Falls (12-07-2641P) | The Honorable Jon Crews, Mayor, City of Cedar Falls, 220 Clay Street, Cedar Falls, IA 50613 | 220 Clay Street, Cedar Falls, IA 50613 | http://www.starr-team.com/starr/LOMR/Pages/RegionVII.aspx | May 31, 2013 | 190017
Michigan: Wayne | City of Taylor (12-05-9857P) | The Honorable Jeffrey P. Lamarand, Mayor, City of Taylor, 23555 Goddard Road, Taylor, MI 48180 | 23555 Goddard Road, Taylor, MI 48180 | http://www.starr-team.com/starr/LOMR/Pages/RegionV.aspx | May 30, 2013 | 260728
Minnesota:
Lac Qui Parle | City of Dawson (12-05-2019P) | The Honorable Merlin Ellefson, Mayor, City of Dawson, 675 Chestnut Street, Dawson, MN 56232 | 675 Chestnut Street, Dawson, MN 56232 | http://www.starr-team.com/starr/LOMR/Pages/RegionV.aspx | May 9, 2013 | 270241
Lac Qui Parle | Unincorporated areas of Lac Qui Parle County (12-05-2019P) | The Honorable DeRon Brehmer, Chair, Lac Qui Parle County Board of Commissioners, 600 6th Street, Madison, MN 562256 | 600 6th Street, Madison, MN 562256 | http://www.starr-team.com/starr/LOMR/Pages/RegionV.aspx | May 9, 2013 | 270239
St. Louis | City of Duluth (12-05-3211P) | The Honorable Don Ness, Mayor, City of Duluth, 411 West First Street, Room 402, Duluth, MN 55802 | 411 West First Street, Duluth, MN 55802 | http://www.starr-team.com/starr/LOMR/Pages/RegionV.aspx | April 12, 2013 | 270421
Missouri: Greene | City of Springfield (12-07-2302P) | The Honorable Bob Stephens, Mayor, City of Springfield, 840 Boonville Avenue, Springfield, MO 65801 | 840 Boonville Avenue, Springfield, MO 65801 | http://www.starr-team.com/starr/LOMR/Pages/RegionVII.aspx | May 31, 2013 | 290149
Nebraska: Buffalo | City of Kearney (12-07-3246P) | The Honorable Stanley Clouse, Mayor, City of Kearney, 18 East 22nd Street, Kearney, NE 68847 | 18 East 22nd Street, Kearney, NE 68847 | http://www.starr-team.com/starr/LOMR/Pages/RegionVII.aspx | May 9, 2013 | 310016
Ohio: Portage | City of Kent (12-05-6090P) | The Honorable Jerry T. Fiala, Mayor, City of Kent, 614 Pioneer Avenue, Kent, OH 44240 | 930 Overholt Drive, Kent, OH 44240 | http://www.starr-team.com/starr/LOMR/Pages/RegionV.aspx | April 29, 2013 | 390456
Oregon:
Jackson | Unincorporated areas of Jackson County (12-10-0825P) | The Honorable Don Skundrick, Chair, Jackson County Board of Commissioners, 10 South Oakdale Avenue, Room 214, Medford, OR 97501 | 10 South Oakdale Avenue, Medford, OR 97501 | http://www.starr-team.com/starr/LOMR/Pages/RegionX.aspx | April 5, 2013 | 415589
Yamhill | Unincorporated areas of Yamhill County (12-10-1146P) | The Honorable Leslie Lewis, Chair, Yamhill Board of Commissioners, 434 Northeast Evans Street, McMinnville, OR 97128 | 535 Northeast 5th Street, McMinnville, OR 97128 | http://www.starr-team.com/starr/LOMR/Pages/RegionX.aspx | May 9, 2013 | 410249
Washington:
Franklin | Unincorporated areas of Franklin County (12-10-0991P) | The Honorable Brad Peck, Chairman, Franklin County Board of Commissioners, 1016 North 4th Avenue, Pasco, WA 99301 | 1016 North 4th Avenue, Pasco, WA 99301 | http://www.starr-team.com/starr/LOMR/Pages/RegionX.aspx | April 5, 2013 | 530044
Walla Walla | Unincorporated areas of Walla Walla County (12-10-0991P) | The Honorable Gregory A. Tompkins, Chairman, Walla Walla County Board of Commissioners, 314 West Main Street, Walla Walla, WA 99362 | 314 West Main Street, Walla Walla, WA 99362 | http://www.starr-team.com/starr/LOMR/Pages/RegionX.aspx | April 5, 2013 | 530194
Wisconsin:
Kewaunee | City of Kewaunee (12-05-5905P) | The Honorable John Blaha, Jr., Mayor, City of Kewaunee, 107 Summers Circle-3 388-4454, Kewaunee, WI 54216 | 401 Fifth Street, Kewaunee, WI 54216 | http://www.starr-team.com/starr/LOMR/Pages/RegionV.aspx | April 26, 2013 | 550215
Outagamie | Unincorporated areas of Outagamie County (12-05-7344P) | The Honorable Thomas Nelson, 410 South Walnut Street, Appleton, WI 54911 | 410 South Walnut Street, Appleton, WI 54911 | http://www.starr-team.com/starr/LOMR/Pages/RegionV.aspx | June 3, 2013 | 550302
Sauk | City of Wisconsin Dells (12-05-7540P) | The Honorable Brian L. Landers, Mayor, City of Wisconsin Dells, 305 Bauer Court, Wisconsin Dells, WI 53965 | 300 LaCrosse Street, Wisconsin Dells, WI 53965 | http://www.starr-team.com/starr/LOMR/Pages/RegionV.aspx | May 28, 2013 | 550065
Wood | City of Wisconsin Rapids (12-05-6906P) | The Honorable Zach Vruwink, Mayor, City of Wisconsin Rapids, 444 West Grand Avenue, Wisconsin Rapids, WI 54495 | Engineering Department, 444 West Grand Avenue, Wisconsin Rapids, WI 54495 | http://www.starr-team.com/starr/LOMR/Pages/RegionV.aspx | April 5, 2013 | 555587

(Catalog of Federal Domestic Assistance No. 97.022, “Flood Insurance.”)

Roy E. Wright,
Deputy Associate Administrator for Mitigation, Department of Homeland Security, Federal Emergency Management Agency.

[FR Doc. 2013-08199 Filed 4-8-13; 8:45 am]

BILLING CODE 9110-12-P